ENVIRONMENTAL PROTECTION AGENCY

40 CFR Part 52

[EPA-R06-OAR-2011-0335; FRL-9973-43—Region 6]

Approval and Promulgation of Implementation Plans; Texas; Disapproval of Interstate Transport State Implementation Plan Revision for the 2006 24-hour PM2.5 NAAQS; Withdrawal of Proposed Rule

AGENCY: Environmental Protection Agency (EPA).

ACTION: Withdrawal of proposed rule.

SUMMARY: The Environmental Protection Agency (EPA) is withdrawing its proposed rule to disapprove the portion of the November 23, 2009 Texas State Implementation Plan (SIP) submittal that intended to demonstrate that the SIP met Clean Act (CAA) requirements to prohibit emissions which will significantly contribute to nonattainment or interfere with maintenance of the 2006 24-hour PM2.5 National Ambient Air Quality Standards (NAAQS) in other states.

DATES: The proposed rule published on April 13, 2011 (76 FR 20602) is withdrawn as of February 14, 2018.

ADDRESSES: The EPA has established a docket for this action under Docket ID No. EPA-R06-OAR-2011-0335. All documents in the docket are listed on the http://www.regulations.gov website. Although listed in the index, some information is not publicly available, e.g., Confidential Business Information or other information whose disclosure is restricted by statute. Certain other material, such as copyrighted material, is not placed on the internet and will be publicly available only in hard copy form. Publicly available docket materials are available either electronically through http://www.regulations.gov or in hard copy at the EPA Region 6, 1445 Ross Avenue, Suite 700, Dallas, Texas 75202-2733.

FOR FURTHER INFORMATION CONTACT: Carl Young, (214) 665-6645, young.carl@epa.gov.

SUPPLEMENTARY INFORMATION: In an April 13, 2011 action EPA proposed to disapprove the portion of a November 23, 2009 Texas SIP submittal that intended to demonstrate that the SIP met the requirements of CAA section 110(a)(2)(D)(i)(I) to prohibit emissions which will significantly contribute to nonattainment or interfere with maintenance of the 2006 24-hour PM2.5 NAAQS in other states (76 FR 20602). EPA is now withdrawing the proposal. In a separate Federal Register action published in conjunction with this withdrawal EPA is proposing to approve this portion of the SIP submittal. The rationale for the proposed approval is detailed in that proposal.

Dated: February 7, 2018.
Anne Idsal,
Regional Administrator, Region 6.

[FR Doc. 2018-02893 Filed 2-13-18; 8:45 am]

BILLING CODE 6560-50-P